DEPARTMENT OF THE INTERIOR

Fish and Wildlife Service

50 CFR Part 17

[Docket No. FWS-R1-ES-2014-0038; 4500030113]

RIN 1018-BA13

Endangered and Threatened Wildlife and Plants; Proposed Endangered Status for 21 Species and Proposed Threatened Status for 2 Species in Guam and the Commonwealth of the Northern Mariana Islands

AGENCY: Fish and Wildlife Service, Interior.

ACTION: Proposed rule; reopening of public comment period and notice of public hearings.

SUMMARY: We, the U.S. Fish and Wildlife Service (Service), recently published a proposed listing for 21 plant and animal species from the Mariana Islands (U.S. Territory of Guam and the U.S. Commonwealth of the Northern Mariana Islands) as endangered species and 2 plant species from the Mariana Islands as threatened species under the Endangered Species Act of 1973, as amended (Act), and announced a 60-day public comment period on the proposed actions, ending December 1, 2014. We now reopen the public comment period for an additional 30 days, and announce two public hearings and four public information meetings on our proposed rule. We are taking these actions to allow all interested parties additional time and opportunity to comment on the proposed rule.

DATES: Written Comments: We will consider comments received or postmarked on or before February 11, 2015, or provided at the public hearings. Please note comments submitted electronically using the Federal eRulemaking Portal (see ADDRESSES) must be received by 11:59 p.m. Eastern Time on the closing date. Any comments that we receive after the closing date may not be considered in the final decision on the proposed rule.

Public Hearings and Information Meetings:

Public hearings | Public information meetings
Guam: Tuesday, January 27, 2015, from 6:00 p.m. to 8:00 p.m. | Guam: Tuesday, January 27, 2015, from 5:00 p.m. to 6:00 p.m.
U.S. Commonwealth of the Northern Mariana Islands (CNMI): Wednesday, January 28, 2015, from 6:00 p.m. to 8:00 p.m. (island of Saipai) | U.S. Commonwealth of the Northern Mariana Islands (CNMI): • Wednesday, January 28, 2015, from 5:00 p.m. to 6:00 p.m. • Thursday, January 29, 2015, from 6:00 p.m. to 8:00 p.m. (island of Rota). • Saturday, January 31, 2015, from 9:00 a.m. to 11:00 a.m. (island of Tinian).

ADDRESSES: Document Availability: You may obtain copies of the proposed rule at http://www.regulations.gov at Docket No. FWS-R1-ES-2014-0038; from the Pacific Islands Fish and Wildlife Office's Web site (http://www.fws.gov/pacificislands ); or by contacting the Pacific Islands Fish and Wildlife Office directly (see FOR FURTHER INFORMATION CONTACT).

Comment Submission: You may submit written comments by one of the following methods:

(1) Electronically: Go to the Federal eRulemaking Portal: http://www.regulations.gov. Submit comments on the proposed listing rule to FWS-R1-ES-2014-0038.

(2) By hard copy: Submit comments on the proposed listing rule by U.S. mail or hand-delivery to: Public Comments Processing, Attn: FWS-R1-ES-2014-0038; Division of Policy and Directives Management; U.S. Fish and Wildlife Service, MS: BPHC; 5275 Leesburg Pike; Falls Church, VA 22041-3803.

We request that you send comments only by the methods described above. We will post all comments on http://www.regulations.gov. This generally means that we will post any personal information you provide us (see the Public Comments section, below, for more information).

Locations of Public Hearings and Information Meetings:

Public hearings | Public information meetings
Guam: University of Guam, in the Leon Guerrero School of Business and Public Administration Building, Anthony Leon Guerrero Multi-Purpose Room 129, located at UOG Station, Mangilao, Guam 96923. | Guam: Same location as the public hearing.
U.S. Commonwealth of the Northern Mariana Islands (CNMI): Island of Saipan, at the Multi-Purpose Center, located at Beach Road, Susupe, Saipan. | U.S. Commonwealth of the Northern Mariana Islands (CNMI): • Island of Saipan, at the same location as the public hearing. • Island of Rota, at the Sinapalo Elementary School Cafeteria, located at Sinapalo I, Songsong Village, Rota, MP 96951. • Island of Tinian, at the Tinian Elementary School Cafeteria, located at San Jose Village, Tinian, MP 96952.

People needing reasonable accommodation in order to attend and participate in either public hearing should contact Kristi Young, Deputy Field Supervisor, Pacific Islands Fish and Wildlife Office, as soon as possible (see FOR FURTHER INFORMATION CONTACT).

FOR FURTHER INFORMATION CONTACT: Kristi Young, Deputy Field Supervisor, Pacific Islands Fish and Wildlife Office, 300 Ala Moana Boulevard, Honolulu, HI 96850; telephone 808-792-9400; or facsimile 808-792-9581. Persons who use a telecommunications device for the deaf (TDD) may call the Federal Information Relay Service (FIRS) at 800-877-8339.

SUPPLEMENTARY INFORMATION:

Public Comments

We are reopening the public comment period for 30 days on our proposed rule to list 23 Mariana Islands species that was published in the Federal Register on October 1, 2014 (79 FR 59364), to allow all interested parties additional time to comment on the proposed rule. We will accept written comments and information until the date specified in the DATES section, above, or at the public hearings. We will consider all information and recommendations from all interested parties.

For details on specific information we are requesting, please see the Information Requested section of our proposed rule (79 FR 59364; October 1, 2014).

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2014-0038 or by appointment, during normal business hours, at the U.S. Fish and Wildlife Service, Pacific Islands Fish and Wildlife Office (see FOR FURTHER INFORMATION CONTACT).

Authority

The authority for this action is the Endangered Species Act of 1973, as amended (16 U.S.C. 1531 et seq.).

Dated: December 19, 2014.
Rowan W. Gould,
Acting Director, U.S. Fish and Wildlife Service.

[FR Doc. 2015-00259 Filed 1-9-15; 8:45 am]

BILLING CODE 4310-55-P